FEDERAL COMMUNICATIONS COMMISSION

47 CFR Part 73

[DA 03-2891]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective October 21, 2003.

FOR FURTHER INFORMATION CONTACT: Kathleen Scheuerle, Media Bureau, (202) 418-2180.

SUPPLEMENTARY INFORMATION: This is a summary of the Commission's Report and Order, adopted October 1, 2003, and released October 3, 2003. The full text of this Commission decision is available for inspection and copying during regular business hours at the FCC Reference Information Center, Portals II, 445 12th Street SW., Room CY-A257, Washington, DC 20554. This document may also be purchased from the Commission's duplicating contractor, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

2. Section 73.202(b), the Table of FM Allotments under California, is amended by removing Channel 264C1 and adding Channel 264B at Corning and by removing Channel 232A and adding Channel 232B1 at Jackson.

3. Section 73.202(b), the Table of FM Allotments under Colorado, is amended by removing Channel 268C and adding Channel 269C1 at Eagle and by removing Channel 269A and adding Channel 268C at Fort Morgan.

4. Section 73.202(b), the Table of FM Allotments under Florida, is amended by removing Channel 263C3 and adding Channel 263C2 at Newberry.

5. Section 73.202(b), the Table of FM Allotments under Idaho, is amended by removing Channel 237C3 and adding Channel 236C3 at Orofino and by removing Channel 237C1 and adding Channel 237C at Sandpoint.

6. Section 73.202(b), the Table of FM Allotments under Louisiana, is amended by removing Channel 239A and adding Channel 239C3 at South Fort Polk.

7. Section 73.202(b), the Table of FM Allotments under Washington, is amended by removing Channel 257C1 and adding Channel 257C at Elma.

Federal Communications Commission.
John A. Karousos,
Assistant Chief, Audio Division, Media Bureau.

[FR Doc. 03-26498 Filed 10-20-03; 8:45 am]

BILLING CODE 6712-01-P